DEPARTMENT OF LABOR

Employment and Training Administration

Notice of Determinations Regarding Eligibility To Apply for Worker Adjustment Assistance and Alternative Trade Adjustment Assistance

In accordance with section 223 of the Trade Act of 1974, as amended (19 U.S.C. 2273) the Department of Labor herein presents summaries of determinations regarding eligibility to apply for trade adjustment assistance for workers (TA-W) number and alternative trade adjustment assistance (ATAA) by (TA-W) number issued during the period of July 2006.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issued a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-59,701; Pilgrim Home and Hearth LLC, Fairfield, CA: July 11, 2005.

TA-W-59,649; Rowe Furniture, Inc., Elliston, VA: June 28, 2006.

The following certifications have been issued. The requirements of Section 222(a)(2)(B) (shift in production) of the Trade Act have been met.

TA-W-59,594; C and D Technologies, Inc., Power Electronics Division, Product Development Department, Tucson, AZ: June 20, 2005.

TA-W-59,706; Eaton Filtration LLC, Elizabeth, NJ: July 12, 2005.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-59,685; Laidlaw Corporation, Metropolis Division, Metropolis, IL: July 7, 2005.

TA-W-59,549; Manufacturers Products Co., Warren, MI: June 5, 2005.

TA-W-59,593; Rauch Industries, Inc., Gastonia, NC: June 20, 2005.

TA-W-59,631; Moosehead Manufacturing Co., Monson, ME: May 14, 2006.

TA-W-59,631A; Moosehead Manufacturing Co., Dover-Foxcroft, ME: May 14, 2006.

TA-W-59,651; Superior Industries Int'l Inc., Chrome Plating Operation Div., Fayetteville, AR: June 28, 2005.

TA-W-58,608; Rug Barn (The), Abbeville, SC: January 10, 2005.

TA-W-59,598; Waste Management of Missouri, Inc., Working on Site at Ford Motor Co. St. Louis Assembly Plant, Hazelwood, MO: June 19, 2005.

TA-W-59,730; Tutee Corp., Vernon, CA: July 6, 2005.

The following certifications have been issued. The requirements of Section 222(a)(2)(B) (shift in production) and Section 246(a)(3)(A)(ii) of the Trade Act have been met.

TA-W-59,678; Dna Corporation, Coupled Products, Inc. Division, Andrews, IN: June 18, 2006.

TA-W-59,684; Whirlpool Corp., Fort Smith, AR: July 7, 2005.

TA-W-59,718; Monroe Staffing, Leased Wkrs On-Site at C-Cor, Inc., Access and Transport Division, Wallingford, CT: July 13, 2005.

TA-W-59,718A; Universal Staffing, Leased Wkrs On-Site at C-Cor, Inc., Access and Transport Division, Wallingford, CT: July 13, 2005.

TA-W-59,718B; Manpower, Leased Wkrs On-Site at C-Cor, Inc., Access and Transport Division, Wallingford, CT: July 13, 2005.

TA-W-59,718C; Summit Technical Services, Leased Wkrs On-Site at C-Cor, Inc., Access and Transport Division, Wallingford, CT: July 13, 2005.

TA-W-59,719; Eaton Corporation, Torque Control Products Division, Hastings, NE: July 11, 2005.

TA-W-59,750; Anritsu Instruments Co., (Formerly Nettest), Utica, NY: July 18, 2005.

TA-W-59,588; Ames True Temper, Inc., Falls City, NE: June 19, 2005.

TA-W-59,652; Stanton International, Inc., Phoenix, AZ: June 28, 2005.

TA-W-59,740; Federal Mogul Corp., Vehicle Safety and Performance Friction Division, Scottsville, KY: July 17, 2005.

TA-W-59,763; Carlisle Publishing Services, A Subsidiary of Carlisle Communications LTD, Dubuque, IA: July 20, 2005.

The following certifications have been issued. The requirements of Section 222(b) (supplier to a firm whose workers are certified eligible to apply for TAA) and Section 246(a)(3)(A)(ii) of the Trade Act have been met.

TA-W-59,614; Ottawa Rubber Company, Bradner, OH: June 21, 2005.

TA-W-59,688; Pace Industries Inc., Harrison, AR: July 11, 2005.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. Workers at the firm are 50 years of age or older.

None.

The Department has determined that criterion (2) of Section 246 has not been met. Workers at the firm possess skills that are easily transferable.

TA-W-59,701; Pilgrim Home and Hearth LLC, Fairfield, CA.

TA-W-59,649; Rowe Furniture, Inc., Elliston, VA.

TA-W-59,594; C and D Technologies, Inc., Power Electronics Division, Product Development Department, Tucson, AZ

TA-W-59,706; Eaton Filtration LLC, Elizabeth, NJ.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Since the workers of the firm are denied eligibility to apply for TAA, the workers cannot be certified eligible for ATAA.

The investigation revealed that criteria (a)(2)(A)(I.A.) and (a)(2)(B)(II.A.) (employment decline) have not been met.

TA-W-59,577; Union Apparel, Inc., Norvelt, PA.

TA-W-59,602; Alliant Techsystems, Inc., Radford, VA.

The investigation revealed that criteria (a)(2)(A)(I.B.) (Sales or production, or both, did not decline) and (a)(2)(B)(II.B.) (shift in production to a foreign country) have not been met.

None.

The investigation revealed that criteria (a)(2)(A)(I.C.) (increased imports) and (a)(2)(B)(II.B.) (shift in production to a foreign country) have not been met.

TA-W-59,484; International Paper, Global Custom Services, Gretna, VA.

TA-W-59,548; Nishikawa Standard Co., New Haven, IN.

The investigation revealed that the predominate cause of worker separations is unrelated to criteria (a)(2)(A)(I.C.) (increased imports) and (a)(2)(B)(II.C) (shift in production to a foreign country).

None.

The workers' firm does not produce an article as required for certification under Section 222 of the Trade Act of 1974.

TA-W-59,500; Connecticut General Life Insurance Co., Cigna Healthcare Service Operations, Philadelphia, PA.

TA-W-59,606; Panasonic Corporation of North America, Corporate Headquarters, Secaucus, NJ.

TA-W-59,687; Connecticut General Life Insurance Co., CIGNA Healthcare, Columbus, OH.

TA-W-59,697; Scharf and Breit, Inc., Franklin Square, NY.

TA-W-59,711; KPMG LLP, Employed On-Site at Bearing Point, Inc., Charlotte, NC.

TA-W-59,749; Mileage Plus, Inc., Subsidiary of United Air Lines Inc. (Tucson Call Center), Tucson, AZ.

The investigation revealed that the criteria of Section 222(b)(2) have not been met. The workers' firm (or subdivision) is not a supplier to or a downstream producer for a firm whose workers were certified eligible to apply for TAA.

None.

I hereby certify that the aforementioned determinations were issued during the month of July 2006. Copies of these determinations are available for inspection in Room C-5311, U.S. Department of Labor, 200 Constitution Avenue, NW., Washington, DC 20210 during normal business hours or will be mailed to persons who write to the above address.

Dated: August 3, 2006.
Richard Church,
Acting Director, Division of Trade Adjustment Assistance.

[FR Doc. E6-13262 Filed 8-11-06; 8:45 am]

BILLING CODE 4510-30-P